DEPARTMENT OF HOMELAND SECURITY

Coast Guard

33 CFR Part 151

46 CFR Part 162

[Docket No. USCG-2001-10486]

RIN 1625-AA32

Standards for Living Organisms in Ships' Ballast Water Discharged in U.S. Waters

AGENCY: Coast Guard, DHS.

ACTION: Rule; announcement of effective date.

SUMMARY: On March 23, 2012, the Coast Guard published in the Federal Register a Final Rule entitled “Standards for Living Organisms in Ships' Ballast Water Discharged in U.S. Waters”. The rulemaking triggered new information collection requirements affecting vessel owners and their potential requests for an extension of the compliance date if they cannot practicably comply with the compliance date otherwise applicable to their vessels. This document announces that the request to revise the existing collection of information to add the new request for an extension provision has been approved by the Office of Management and Budget (OMB) and may now be enforced. The OMB control number is 1625-0069.

DATES: 33 CFR 151.1513 and 151.2036 will be effective beginning June 21, 2012.

FOR FURTHER INFORMATION CONTACT: If you have questions about this document, call or email Mr. John Morris, Project Manager, U.S. Coast Guard; telephone 202-372-1402, email environmental_standards@uscg.mil. If you have questions about viewing the docket (USCG-2001-10486), call Ms. Renee V. Wright, Program Manager, Docket Operations, telephone 202-366-9826.

SUPPLEMENTARY INFORMATION: The Coast Guard established a standard for the allowable concentration of living organisms in ships' ballast water discharged in waters of the United States (77 FR 17254). The Coast Guard also established an approval process for ballast water management systems (77 FR 17254). These new regulations will aid in controlling the introduction and spread of nonindigenous species from ships' ballast water in waters of the United States. With the exception of this collection of information, the final rule becomes effective on June 21, 2012. In the final rule, the Coast Guard included a provision to allow vessel owners and operators to request an extension of their compliance date if they cannot practicably comply with the compliance date otherwise applicable to their vessels. This extension provision will give flexibility to vessel owners and operators to comply with the final rule.

Under the Paperwork Reduction Act of 1995 (44 U.S.C. 3501-3520), an agency may not conduct or sponsor a collection of information until the collection is approved by OMB. Accordingly, the preamble to the final rule stated that the Coast Guard would not enforce the collection of information requirements occurring under 33 CFR 151.1513 and 151.2036 until the collection of information request was approved by OMB, and also stated that the Coast Guard would publish a notice in the Federal Register announcing that OMB approved and assigned a control number for the requirement.

The Coast Guard submitted the information collection request to OMB for approval in accordance with the Paperwork Reduction Act of 1995. On May 10, 2012, OMB approved the revision to the existing collection of information, OMB Control Number 1625-0069, entitled “Ballast Water Management for Vessels with Ballast Tanks Entering U.S. Waters.” The approval for this collection of information expires on May 31, 2015.

Dated: June 6, 2012.
F.J. Sturm,
Acting Director of Commercial Regulations and Standards, U.S. Coast Guard.

[FR Doc. 2012-14382 Filed 6-12-12; 8:45 am]

BILLING CODE 9110-04-P